DEPARTMENT OF COMMERCE

International Trade Administration

[A-570-937]

Citric Acid and Certain Citrate Salts From the People's Republic of China: Rescission of Antidumping Duty Administrative Review; 2014-2015

AGENCY: Enforcement and Compliance, International Trade Administration, Department of Commerce.

SUMMARY: The Department of Commerce (“the Department”) is rescinding the administrative review of the antidumping duty order on citric acid and certain citrate salts (“citric acid”) from the People's Republic of China (“the PRC”) for the period of review May 1, 2014, through April 30, 2015.

DATES: Effective Date: October 19, 2015.

FOR FURTHER INFORMATION CONTACT: Maisha Cryor, AD/CVD Operations, Office IV, Enforcement and Compliance, International Trade Administration, U.S. Department of Commerce, 14th Street and Constitution Avenue NW., Washington DC 20230; telephone: (202) 482-5831.

SUPPLEMENTARY INFORMATION:

Background

On July 1, 2015, the Department published the notice of opportunity to request an administrative review of the order on citric acid from the PRC for the period of review May 1, 2014, through April 30, 2015.¹ On May 28, 2015, Laiwu Taihe Biochemistry Co., Ltd. (“Taihe”) requested that the Department conduct an administrative review of its period of review (“POR”) sales.² On May 29, 2015, RZBC Co., Ltd., RZBC Import & Export Co., Ltd., and RZBC (Juxian) Co., Ltd. (collectively, “RZBC”) requested an administrative review of its POR sales.³ On June 1, 2015, Archer Daniels Midland Company, Cargill Incorporated, and Tate & Lyle Ingredients Americas LLC (“Petitioners”) requested an administrative review of the POR sales of Taihe and RZBC.⁴ RZBC withdrew its request for an administrative review on July 2, 2015.⁵ Taihe withdrew its request for an administrative review on July 31, 2015.⁶ Petitioners withdrew their request for an administrative review on July 31, 2015.⁷

¹ See Antidumping or Countervailing Duty Order, Finding, or Suspended Investigation; Opportunity to Request Administrative Review, 80 FR 37588, 37593 (July 1, 2015).

² See Letter from Taihe to the Department, dated May 28, 2015.

³ See Letter from RZBC to the Department, dated May 29, 2015.

⁴ See Letter from Petitioners to the Department, dated June 1, 2015.

⁵ See Letter from RZBC, dated July 2, 2015.

⁶ See Letter from Taihe, dated July 31, 2015.

⁷ See Letter from Petitioners, dated July 31, 2015.

Rescission of Review

Pursuant to 19 CFR 351.213(d)(1), the Department will rescind an administrative review, in whole or in part, if the party or parties that requested a review withdraws the request within 90 days of the publication date of the notice of initiation of the requested review. As noted above, all parties withdrew their requests for administrative reviews within 90 days of the publication date of the notice of initiation. No other parties requested an administrative review of the order. Therefore, in accordance with 19 CFR 351.213(d)(1), we are rescinding this review in its entirety.

Assessment

The Department will instruct U.S. Customs and Border Protection (“CBP”) to assess antidumping duties on all appropriate entries of citric acid from the PRC. Antidumping duties shall be assessed at rates equal to the cash deposit of estimated antidumping duties required at the time of entry, or withdrawal from warehouse, for consumption in accordance with 19 CFR 351.212(c)(1)(i). The Department intends to issue appropriate assessment instructions to CBP 15 days after the date of publication of this notice of rescission of administrative review.

Notifications

This notice also serves as a final reminder to importers of their responsibility under 19 CFR 351.402(f)(2) to file a certificate regarding the reimbursement of antidumping duties prior to liquidation of the relevant entries during this review period. Failure to comply with this requirement could result in the presumption that reimbursement of antidumping duties occurred and the subsequent assessment of double antidumping duties.

This notice also serves as a final reminder to parties subject to administrative protective order (“APO”) of their responsibility concerning the return or destruction of proprietary information disclosed under an APO in accordance with 19 CFR 351.305(a)(3). Timely written notification of the return or destruction of APO materials, or conversion to judicial protective order, is hereby requested. Failure to comply with the regulations and terms of an APO is a sanctionable violation.

This notice is issued and published in accordance with sections 751(a)(1) and 777(i)(1) of the Tariff Act of 1930, as amended, and 19 CFR 351.213(d)(4).

Dated: October 9, 2015.
Christian Marsh,
Deputy Assistant Secretary for Antidumping and Countervailing Duty Operations.

[FR Doc. 2015-26487 Filed 10-16-15; 8:45 am]

BILLING CODE 3510-DS-P